NATIONAL AERONAUTICS AND SPACE ADMINISTRATION

[Notice: 15-055]

NASA Advisory Council; Technology, Innovation, and Engineering Committee; Meeting

AGENCY: National Aeronautics and Space Administration.

ACTION: Notice of meeting.

SUMMARY: In accordance with the Federal Advisory Committee Act, Public Law 92-463, as amended, the National Aeronautics and Space Administration (NASA) announces a meeting of the Technology, Innovation and Engineering (TI&E) Committee of the NASA Advisory Council (NAC). This Committee reports to the NAC. This meeting will include a joint session with the NAC Human Exploration and Operations (HEO) Committee.

DATES: Monday, July 27, 2015, 12:00 p.m.-5:30 p.m., Local Time; and Tuesday, July 28, 2015, 8:00 a.m.-2:00 p.m., Local Time.

ADDRESSES: Jet Propulsion Laboratory, Building 180, Room 101, 4800 Oak Grove Drive, Pasadena, CA 91019. Note: Meeting location for the joint session with the NAC HEO Committee will be Building 186, Von Kármán Auditorium, from 1:00 p.m.-5:30 p.m., Local Time, on July 27.

FOR FURTHER INFORMATION CONTACT: Mr. Mike Green, Executive Secretary for the NAC TI&E Committee, Space Technology Mission Directorate, NASA Headquarters, Washington, DC 20546, phone number 202-358-4710, or g.m.green@nasa.gov.

SUPPLEMENTARY INFORMATION: The meeting will be open to the public up to the seating capacity of the room. This meeting is also available telephonically and by WebEx. You must use a touch tone phone to participate in this meeting. Any interested person may call the USA toll-free conference call number 1-844-467-6272, passcode 102421, to participate in this meeting by telephone. The WebEx link is https://nasa.webex.com/, the meeting number is 999 142 659, and the password is Technology15%. The joint meeting with the NAC HEO Committee will use the USA toll-free conference call number 1-888-455-6733 or toll number 1-210-839-8935. The numeric participant passcode is 3453695. The WebEx link is https://nasa.webex.com, the meeting number is 999 635 873, and the password is Exploration@2015 (case sensitive).

The agenda for the NAC TI&E Committee meeting includes the following topics:

—Space Technology Mission Directorate Update

—Remarks by Jet Propulsion Laboratory Center Director

—Briefing on Impacts of Space Technology Mission Directorate Budget Reductions on Major Projects

—Update on Low Density Supersonic Decelerator Project

—Update on Deep Space Atomic Clock Project

—Update on Deep Space Optical Communications Project

—Office of the Chief Technologist Update

The joint session with the NAC HEO Committee includes the following topics:

—Overview of Space Technology Program

—Briefing of Evolvable Mars Strategy and HEO Technology Development Efforts

—Overview of Hydrocarbon Engine Activities

—Overview of NASA Launch Services

Attendees will be required sign a register and to comply with Jet Propulsion Laboratory (JPL) security requirements including presentation of a valid picture ID (such as a driver's license for U.S. Citizens; Permanent Resident green card; or passport/visa for non-U.S. Citizens) before receiving admittance to JPL. Due to the Real ID Act, Public Law 109-13, any attendees with driver's licenses issued from non-compliant states/territories must present a second form of identification: [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Individuals without proper identification will not be admitted to the JPL. Members of the public interested in attending this meeting must contact Ms. Helen N. Paley of JPL at phone number 818-354-6427 or helen.n.paley@jpl.nasa.gov to receive a listing of the information required prior to admittance to JPL. Completed information spreadsheet must be emailed to Ms. Paley by no later than Friday, July 17, 2015. It is imperative that this meeting be held on these dates to accommodate the scheduling priorities of the key participants.

Patricia D. Rausch,
Advisory Committee Management Officer, National Aeronautics and Space Administration.

[FR Doc. 2015-16828 Filed 7-9-15; 8:45 am]

BILLING CODE 7510-13-P